DEPARTMENT OF HEALTH AND HUMAN SERVICES

Centers for Disease Control and Prevention

Disease, Disability, and Injury Prevention and Control Special Emphasis Panel: Applied Research on Antimicrobial Resistance Prevention, Program Announcement #03120

In accordance with section 10(a)(2) of the Federal Advisory Committee Act (Pub. L. 92-463), the Centers for Disease Control and Prevention (CDC) announces the following meeting:

Name: Disease, Disability, and Injury Prevention and Control Special Emphasis Panel (SEP): Applied Research on Antimicrobial Resistance, Program Announcement #03120.

Times and Dates: 9 a.m.-10 a.m., July 17, 2003 (Open), 10 a.m.-6 p.m., July 17, 2003 (Closed).

Place: National Center for Infectious Disease, Office of the Director, OAS Conference Room #3555, 35 Executive Park Drive, Atlanta, GA 30342, Telephone 404.498.3240.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Program Announcement #03120.

Contact Person for More Information: Mary L. Lerchen, Deputy Director, Office of Extramural Research, National Center for Infectious Diseases, CDC, 1600 Clifton Road, MS-C19, Atlanta, GA 30333, Telephone 404.639.0043.

The Director, Management Analysis and Services Office has been delegated the authority to sign Federal Register notices pertaining to announcements of meetings and other committee management activities, for both the CDC and the Agency for Toxic Substances and Disease Registry.

Dated: June 20, 2003.
Alvin Hall,
Director, Management Analysis and Services Office, Centers for Disease Control and Prevention (CDC).

[FR Doc. 03-16407 Filed 6-27-03; 8:45 am]

BILLING CODE 4163-18-P